DEPARTMENT OF HEALTH AND HUMAN SERVICES

Centers for Disease Control and Prevention

[60Day-17-1049; Docket No. CDC-2017-0031]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on performance monitoring activities for funding opportunity announcement PS13-1308 “Promoting Adolescent Health Through School-Based HIV/STD Prevention”, which is intended to gather information from funded partners to monitor their progress towards achieving the goals of DASH's funding opportunity announcement Promoting Adolescent Health through School-Based HIV/STD Prevention and School-Based Surveillance.

DATES: Written comments must be received on or before June 5, 2017.

ADDRESSES: You may submit comments, identified by Docket No. CDC-2017-0031 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Promoting Adolescent Health Through School-Based HIV/STD Prevention (OMB Control Number 0920-1049, expiration, 2/28/2018)—Extension—National Center for HIV/AIDS, Viral Hepatitis, STD, and TB Prevention, Centers for Disease Control and Prevention (CDC).

Background and Brief Description

Many young people engage in sexual behaviors that place them at risk for HIV infection, other sexually transmitted diseases (STD), and pregnancy. According to the 2011 National Youth Risk Behavior Survey (YRBS) results, 47% of U.S. high school students ever had sexual intercourse; 34% had sexual intercourse with at least one person during the three months before the survey; and 15% had had sexual intercourse with four or more persons during their lifetime. Of those sexually active high school students, 40% reported that either they or their partner had not used a condom during last sexual intercourse, and 77% reported that either they or their partner had not used birth control pills or Depo-Provera (or any injectable birth control), Nuva Ring (or any birth control ring), Implanon (or any implant), or any intrauterine device (IUD) before last sexual intercourse.

Establishing healthy behaviors during childhood and adolescence is easier and more effective than trying to change unhealthy behaviors during adulthood. Since 1987, the Division of Adolescent and School Health (DASH), which is now a part of the National Center for HIV/AIDS, Viral Hepatitis, STD, and TB Prevention, Centers for Disease Control and Prevention (CDC), has been a unique source of support for HIV prevention efforts in the Nation's schools.

Funded agencies include non-governmental organizations, state education agencies, and local education agencies. The primary purpose of Cooperative Agreement PS-13-1308 is (1) to build the capacity of priority districts and priority schools to effectively contribute to the reduction of HIV infection and other STD among adolescents; (2) the reduction of disparities in HIV infection and other STD experienced by specific adolescent sub-populations; and (3) the conducting of school-based surveillance, a component not included in this data collection for evaluation.

During the previous approval period we completed six rounds of data collection and review, including the completion of biannual progress reports that provided our funded partners with information on their progress towards achieving the goals of PS13-1308. We completed two annual reports that summarized all of the data collected via this information collection request and provided our division and center information on strengths and barriers to the success of activities under funding opportunity announcement PS13-1308. Additionally, these findings have been submitted to the upcoming American Public Health Association 2017 meeting for dissemination to broader public health audiences.

We are requesting an OMB approval for a one-year extension of the current information collection request so that we can gather performance monitoring data for the remaining year of PS13-1308. We will use this time to collect data on the performance of PS13-1308 funded agencies to better inform our program as they make decisions about the progress of the current funding opportunity and future funding announcements.

CDC continue to use a web-based system to collect data on the approaches that funded agencies are using to meet their goals. Approaches include helping districts and schools deliver exemplary sexual health education emphasizing HIV and other STD prevention; increasing adolescent access to key sexual health services; and establishing safe and supportive environments for students and staff.

To track funded agency progress and evaluate the effectiveness of program activities, CDC will collect data using a mix of process and performance measures. Process measures, which all funded agencies will complete, are important to assess the extent to which planned program activities have been implemented and lead to feasible and sustainable programmatic outcomes. Process measures include items on school health policy assessment and monitoring, and on providing training and technical assistance to partner education agencies and schools. Only state and local education agencies will complete performance measures to assess whether funded activities at each site are leading to intended outcomes including public health impact of systemic change in schools. These measures drove the development of questionnaires that have been tailored to each funded agencies' approach (i.e., exemplary sexual health education, sexual health services, and safe and supportive environments).

Respondents include 18 state education agencies, 17 local education agencies, and 6 non-governmental organizations that have all been funded under PS13-1308. The questionnaires will be submitted to CDC semi-annually using the Program Evaluation and Reporting System, an electronic web-based interface specifically designed for this data collection.

Each funded agency received a unique log-in to the system and technical assistance to ensure they can use the system easily. The dates when data are requested reflect Procurement and Grants Office deadlines to provide timely feedback to funded agencies and CDC staff for accountability and optimal use of funds. CDC anticipates that semi-annual information collection will occur in August 2017-July 2018.

The estimated burden per response ranges from 0.5 hours to 6 hours. This variation in burden is due to the variability in the questions on the forms based on the approach and type of funded agency. For instance, non-governmental organizations have fewer questions to respond to because they only have questions for process evaluation. Local education agencies have the highest burden because it takes more time to gather information as they gather data at the school- and student-level as compared with state education agencies that report only state- and district-level data. The annualized burden of 804 hours is for all funded agencies. The reduction in burden is a result of one partner agency that withdrew from participation.

There are no costs to respondents other than their time.

Estimated Annualized Burden Hours

Type of respondents | Form name | Number of respondents | Number of responses per respondent | Average burden per response (in hrs.) | Total burden (in hrs.)
State Education Agency (SEA) | Exemplary Sexual Health Education Measures | 18 | 2 | 4 | 144
| Sexual Health Services Measures | 18 | 2 | 3 | 108
| Safe and Supportive Environments Measures | 18 | 2 | 1 | 36
Local Education Agency (LEA) | Exemplary Sexual Health Education Measures | 17 | 2 | 6 | 204
| Sexual Health Services Measures | 17 | 2 | 3 | 102
| Safe and Supportive Environments Measures | 17 | 2 | 6 | 204
Non-governmental organization (NGO) | Exemplary Sexual Health Education Measures | 2 | 2 | 30/60 | 2
| Sexual Health Services Measures | 2 | 2 | 30/60 | 2
| Safe and Supportive Environments Measures | 2 | 2 | 30/60 | 2
Total |  |  |  |  | 804

Leroy Richardson,
Chief, Information Collection Review Office, Office of Scientific Integrity, Office of the Associate Director for Science, Office of the Director, Centers for Disease Control and Prevention.

[FR Doc. 2017-06866 Filed 4-5-17; 8:45 am]

BILLING CODE 4163-18-P